DEPARTMENT OF TRANSPORTATION

National Highway Traffic Safety Administration

Research and Development Programs Meeting

AGENCY: National Highway Traffic Safety Administration, DOT.

ACTION: Notice.

SUMMARY: This notice announces a public meeting at which NHTSA will describe and discuss specific research and development projects. Further, the notice requests suggestions for topics to be presented by the agency.

DATES AND TIMES: The National Highway Traffic Safety Administration will hold a public meeting devoted primarily to presentations of specific research and development projects on December 14, 2000, beginning at 1:30 p.m. and ending at approximately 5 p.m. The deadline for interested parties to suggest agenda topics is 5 p.m. on November 29, 2000. Questions may be submitted in advance regarding the agency's research and development projects. They must be submitted in writing by December 4, 2000, to the address given below. If sufficient time is available, questions received after the December 4 date will be answered at the meeting during the discussion period. The individual, group, or company asking a question does not have to be present for the question to be answered. A consolidated list of answers to questions submitted by December 4 will be available at the meeting and will be mailed to requesters after the meeting.

ADDRESSES: The meeting will be held at the Best Western Gateway International Hotel, Romulus, Michigan 48174, telephone number 734-728-2800. Suggestions for specific research and development topics as described below and questions for the December 14, 2000, meeting relating to the agency's research and development programs should be submitted to the Office of the Associate Administrator for Research and Development, NRD-01, National Highway Traffic Safety Administration, Room 6206, 400 Seventh Street, SW., Washington, DC 20590. The fax number is (202) 366-5930.

SUPPLEMENTARY INFORMATION: In recent years, since April 1993, NHTSA has provided detailed information about its research and development programs in presentations at a series of public meetings. The purpose is to make available more complete and timely information regarding the agency's research and development programs. This is the twenty-eighth meeting in that series, and it will be held on December 14, 2000, at the Best Western Gateway International Hotel, Romulus, Michigan.

NHTSA requests suggestions from interested parties on specific agenda topics to be presented at this meeting. NHTSA will base its decisions about the agenda, in part, on the suggestions it receives by 5 p.m. on November 29, 2000. Before the meeting, NHTSA will publish a notice with an agenda listing the research and development topics to be discussed. The agenda can also be obtained by calling or faxing the request to the telephone numbers listed in this notice, through the E-mail address listed in this notice, or from NHTSA's Web site under Announcements/Public Meetings at URL http://www.nhtsa.dot.gov/nhtsa/announce/meetings/.

NHTSA asks that the suggestions be limited to three topics, in priority order, so that the presentations at the December 14, 2000, meeting can be most useful to the audience. Specific research and development topics are listed below. Many of these topics have been discussed at previous meetings. Suggestions for agenda topics are not restricted to this listing, and interested parties are invited to suggest other research and development topics of specific interest to their organizations or items of general interest. Additionally, if any interested parties would like to make a presentation regarding technical issues concerning any of NHTSA's research programs, information concerning the proposed topic and speaker should be submitted in writing by 5 p.m. on November 29, 2000.

Specific R&D topics are:

Fiscal Years 2000-2001 R&D Research Efforts,

International Harmonized Research Activities (IHRA),

On-line tracking system for NHTSA's research projects, and

Crash Injury Research and Engineering Network (CIREN).

Specific Crashworthiness R&D topics are:

Preparation of new dummies for assessment of advanced air bag technology,

Improved frontal crash protection (program status, problem identification, offset testing),

Vehicle compatibility,

Upgrade side crash protection,

Child restraint/air bag interaction (CRABI) dummy testing,

Head and neck injury research,

Lower extremity injury research, and

Thorax injury research.

Specific Crash Avoidance R&D topics are:

National Advanced Driving Simulator (NADS),

Intelligent vehicle initiative (the rear-end collision avoidance system operational test),

Drowsy driver monitoring,

Driver workload assessment, and

Lane change/merge collision avoidance system guidelines.

Specific National Center for Statistics and Analysis (NCSA) topics are:

Special crash investigation studies and

Crash avoidance data collection.

Separately, questions regarding research projects that have been submitted in writing not later than 5 p.m. on December 4, 2000, will be answered. The summary minutes of the meeting, copies of materials handed out at the meeting, and answers to the questions submitted for response at the meeting will be available for public inspection in the DOT Docket in Washington, DC, within 3 weeks after the meeting. Copies of this material will then be available at ten cents a page upon request to DOT Docket, Room PL-401, 400 Seventh Street, SW., Washington, DC 20590. The DOT Docket is open to the public from 10 a.m. to 5 p.m. The summary minutes, handouts, and answers to the questions will also be available on NHTSA's Web site at Announcements/Public Meetings at URL http://www.nhtsa.dot.gov/nhtsa/announce/meetings/.

Additionally, the agency is in the process of reviewing NHTSA's quarterly meetings on its safety performance standards and research and development programs. A survey has been posted on NHTSA's Web site at URL http://www.nhtsa.dot.gov/nhtsa/announce/meetings/ for those interested in commenting on the quarterly meeting process.

NHTSA will provide technical aids to participants as necessary, during the Research and Development Programs Meeting. Thus, any person desiring the assistance of “auxiliary aids” (e.g., sign-language interpreter, telecommunication devices for deaf persons (TTDs), readers, taped texts, braille materials, or large print materials and/or a magnifying device), please contact Rita Gibbons by telephone on (202) 366-4862, by telefax on (202) 366-5930, or by E-mail at rgibbons@nhtsa.dot.gov by 5 p.m. December 4, 2000.

Should it be necessary to cancel the meeting due to inclement weather or to any other emergencies, a decision to cancel will be made as soon as possible and posted immediately on NHTSA's Web site at Announcements/Public Meetings at URL http://www.nhtsa.dot.gov/nhtsa/announce/meetings/. If you do not have access to the Web site, you may call for information at the contact listed below and leave your telephone or telefax number. You will be called only if the meeting is postponed or canceled.

FOR FURTHER INFORMATION CONTACT: Rita Gibbons, Staff Assistant, Office of Research and Development, 400 Seventh Street, SW., Washington, DC 20590. Telephone: (202) 366-4862. Fax number: (202) 366-5930. E-mail: rgibbons@nhtsa.dot.gov.

Issued: November 16, 2000.
Raymond P. Owings,
Associate Administrator for Research and Development.

[FR Doc. 00-29905 Filed 11-21-00; 8:45 am]

BILLING CODE 4910-59-P